DEPARTMENT OF EDUCATION

National Institute on Disability and Rehabilitation Research (NIDRR); Disability and Rehabilitation Research Projects and Centers Program; Rehabilitation Research and Training Centers (RRTCs); Employer Practices Related to Employment Outcomes Among Individuals With Disabilities

Catalog of Federal Domestic Assistance (CFDA) Number: 84.133B-3.

AGENCY: Office of Special Education and Rehabilitative Services, Department of Education.

ACTION: Notice of final priority.

SUMMARY: The Assistant Secretary for Special Education and Rehabilitative Services announces a priority for the Disability and Rehabilitation Research Projects and Centers Program administered by NIDRR. Specifically, this notice announces a priority for an RRTC on Employer Practices Related to Employment Outcomes Among Individuals with Disabilities. The Assistant Secretary may use this priority for competitions in fiscal year (FY) 2010 and later years. We take this action to focus research attention on areas of national need. We intend this priority to improve rehabilitation services and outcomes for individuals with disabilities.

DATES: Effective Date: This priority is effective June 17, 2010.

FOR FURTHER INFORMATION CONTACT: Lynn Medley, U.S. Department of Education, 400 Maryland Avenue, SW., Room 5140, PCP, Washington, DC 20202. Telephone: (202) 245-7338 or by e-mail: Lynn.Medley@ed.gov.

If you use a telecommunications device for the deaf (TDD), call the Federal Relay Service (FRS), toll free, at 1-800-877-8339.

SUPPLEMENTARY INFORMATION: This notice of final priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended.

RRTC Program

The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (73 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must also demonstrate in their applications how they will address, in whole or in part, the needs of individuals with disabilities from minority backgrounds.

Program Authority: 29 U.S.C. 762(g) and 764(b)(2).

Applicable Program Regulations: 34 CFR part 350.

We published a notice of proposed priority (NPP) for NIDRR's Disability and Rehabilitation Research Projects and Centers Program in the Federal Register on January 14, 2010 (75 FR 2119). The NPP included a background statement that described our rationale for the priority proposed in that notice.

There are differences between the NPP and this notice of final priority (NFP) as discussed in the following section.

Public Comment: In response to our invitation in the NPP, three parties submitted comments on the proposed priority. An analysis of the comments and of any changes in the priority since publication of the NPP follows.

Generally, we do not address technical and other minor changes or suggested changes the law does not authorize us to make under the applicable statutory authority. In addition, we do not address general comments that raised concerns not directly related to the proposed priority.

Analysis of Comments and Changes:

Comment: One commenter suggested that employment research should not focus solely on employer practices but should also examine barriers to employment at the system and consumer levels.

Discussion: NIDRR acknowledges the importance of conducting research on the system- and consumer-level barriers to the employment of individuals with disabilities. However, in establishing the scope of this priority, NIDRR considered the broad employment-related goals of the Office of Special Education and Rehabilitative Services and the state of the science on employer practices related to individuals with disabilities (summarized in the Notice of Proposed Priority published in the Federal Register on January 14, 2010 (75 FR 2119-2122)). Based on these inputs, NIDRR concluded that this priority should be directed to research on specific employer practices towards hiring, retaining, and advancing individuals with disabilities and the relationship between different practices and employment outcomes for individuals with disabilities.

Changes: None.

Comment: One commenter pointed out that research alone is not sufficient to improve employer practices that affect individuals with disabilities. The commenter stated that research in this area must be translated and implemented in the field of practice, and that, for the employer practices to be effective, they must benefit both employers and employees.

Discussion: NIDRR acknowledges the importance of translating research results into practice. Paragraph (c) of the priority requires the grantee to conduct training and dissemination activities to facilitate the utilization of research findings in employment settings. We believe that these requirements will help ensure that research results are disseminated and available to employers, vocational rehabilitation (VR) practitioners, and policy makers. Grantees also must collaborate with employers in developing, implementing, and evaluating intervention strategies. We believe that this requirement will help ensure that employers can provide feedback to the grantee on how practices can be implemented to benefit them as well as employees.

Changes: None.

Comment: One commenter suggested that the unit of analysis focus on changes in policies at the State level rather than the employer or individual level. The commenter noted that this level of analysis would facilitate the identification of the effects of system-level variables on employment outcomes.

Discussion: Nothing in the priority precludes the examination of State-level data. However, the focus of the priority, as reflected in paragraphs (a) and (b), is on employer practices and the relationship between those practices and employment outcomes. Therefore, an applicant can propose to analyze State-level data provided that it also meets the requirements reflected in paragraphs (a) and (b) of the priority.

Changes: None.

Comment: One commenter suggested that applicants study factors other than employer practices that may affect the employment of individuals with disabilities.

Discussion: Paragraph (a) of the proposed priority requires that the RRTC conduct research to determine the extent to which employer practices are associated with factors that include but are not limited to employer size, geographic regions, sector of industry or the economy (e.g., private sector, public sector, goods-producing, service-producing), employer preconceptions, and experience working with VR agencies. However, in the proposed priority, we inadvertently neglected to specify how research using these factors should be conducted and will change paragraph (a) in the priority to make this clear.

Changes: NIDRR has revised the wording of the last sentence in paragraph (a) of the priority to clarify that the RRTC must conduct research to determine the extent to which the specific employer practices examined by the RRTC are associated with such factors as employer size, geographic regions, sector of industry or the economy (e.g., private sector, public sector, goods-producing, service-producing), employer preconceptions, and experience working with VR agencies.

Final Priority:

The Assistant Secretary for Special Education and Rehabilitative Services announces a priority for a Rehabilitation Research and Training Center (RRTC) on Employer Practices Related to Employment Outcomes Among Individuals with Disabilities. This RRTC must conduct research that contributes to our knowledge about the differences that exist in employer practices towards hiring individuals with disabilities and the relationship between different practices and employment outcomes for individuals with disabilities. This new knowledge will contribute to more targeted interventions to improve employer practices related to the employment of individuals with disabilities. Under this priority, the RRTC must contribute to the following outcomes:

(a) New knowledge of specific employer practices most strongly associated with desired employment outcomes for individuals with disabilities and the prevalence of these practices. The RRTC must contribute to this outcome by identifying and categorizing employer practices related to the hiring, retention, and advancement of individuals with disabilities and conducting research on the extent to which employers engage in specific practices that have been found in relevant research to promote positive employment outcomes for individuals with disabilities. The RRTC must also conduct research to determine the extent to which these employer practices are associated with factors that include, but are not limited to: Employer size, geographic regions, sector of industry or the economy (e.g., private sector, public sector, goods-producing, service producing), employer preconceptions, and experience working with vocational rehabilitation agencies.

(b) Increased knowledge about how these practices relate to employer success in hiring, retention, and promotion of individuals with disabilities. Applicants must propose strategies to collect information about these practices and outcomes directly from employers, taking into account that it can be difficult to collect information about employer practices and outcomes. In addition, applicants are encouraged to use existing databases such as those maintained by the Equal Employment Opportunity Commission, the Small Business Administration, the Office of Federal Contract Compliance Programs, and disability insurance providers.

(c) Increased incorporation of findings into practice and policy. The RRTC must contribute to this outcome by:

(1) Collaborating with employer groups to develop, evaluate, or implement strategies to increase utilization of positive practices identified by the RRTC.

(2) Conducting training and dissemination activities to facilitate the utilization of research findings in employment and policy settings.

In addition, this RRTC must collaborate with:

(1) Relevant Rehabilitation Services Administration grantees, such as the 10 regional Technical Assistance and Continuing Education projects.

(2) Relevant grantees and programs in the Department of Labor, including the Office of Disability Employment Policy's National Technical Assistance, Policy, and Research Center for Employers.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priority justify the costs.

Discussion of costs and benefits:

The benefits of the Disability and Rehabilitation Research Projects and Centers Programs have been well established over the years in that similar projects have been completed successfully. This final priority will generate new knowledge through research and development.

Another benefit of this final priority is that the establishment of a new RRTC will advance research to improve the lives of individuals with disabilities. The new RRTC will disseminate and promote the use of new information that will improve the options for individuals with disabilities to obtain, retain, and advance in employment.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll-free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: May 13, 2010.
Alexa Posny,
Assistant Secretary for Special Education and Rehabilitative Services.

[FR Doc. 2010-11877 Filed 5-17-10; 8:45 am]

BILLING CODE 4000-01-P